DEPARTMENT OF HEALTH AND HUMAN SERVICES

Centers for Medicare & Medicaid Services

42 CFR Parts 411, 413, 488, and 489

[CMS-1779-F2]

RIN 0938-AV02

Medicare Program; Prospective Payment System and Consolidated Billing for Skilled Nursing Facilities; Updates to the Quality Reporting Program and Value-Based Purchasing Program for Federal Fiscal Year 2024; Corrections

AGENCY: Centers for Medicare & Medicaid Services (CMS), Department of Health and Human Services (HHS).

ACTION: Final rule; correction.

SUMMARY: This document corrects technical errors in the final rule that appeared in the August 7, 2023 Federal Register, entitled “Medicare Program; Prospective Payment System and Consolidated Billing for Skilled Nursing Facilities; Updates to the Quality Reporting Program and Value-Based Purchasing Program for Federal Fiscal Year 2024”. The effective date was October 1, 2023.

DATES: This correcting document is effective April 10, 2024, and is applicable beginning October 1, 2023.

FOR FURTHER INFORMATION CONTACT: John Kane, (410) 786-0557, for information related to the SNF PPS.

SUPPLEMENTARY INFORMATION:

I. Background

In FR Doc. 2023-16249 of August 7, 2023 (88 FR 53200), there were technical errors that are identified and corrected in this correcting document. These corrections are applicable as if they had been included in the final rule entitled “Medicare Program; Prospective Payment System and Consolidated Billing for Skilled Nursing Facilities; Updates to the Quality Reporting Program and Value-Based Purchasing Program for Federal Fiscal Year 2024” (hereinafter referred to as the FY 2024 SNF PPS final rule), which was effective October 1, 2023.

II. Summary of Errors

A. Summary of Errors in the Preamble

On page 53221 of the FY 2024 SNF PPS final rule (88 FR 53200), we discussed our proposal to add the surgical option that allows a subset of subcategory 42.2—codes for displaced fractures to be eligible for one of two orthopedic surgery categories. Additionally, we stated that we would add this surgical option to the subcategory of M84.5—codes for pathological fractures to certain weight bearing bones to be eligible for one of two orthopedic surgery categories. In the final rule, we inadvertently stated that this proposal applied to 45 of the codes within the subcategory S42.2 codes and to 46 of the codes within the subcategory M84.5 codes. However, these numbers were inadvertently swapped, meaning that the proposal applied to 46 of the codes within the subcategory S42.2 codes and to 45 of the codes within the subcategory M84.5 codes. We are correcting these errors.

B. Summary and Corrections of Errors to Tables Posted on the CMS Website for the PDPM ICD-10 Mappings

We are correcting the following errors to the FY 2024 Patient Driven Payment Model (PDPM) ICD-10-CM mappings (hereinafter referred to as PDPM ICD-10 code mappings) that were made available on the CMS website at https://www.cms.gov/medicare/medicare-fee-for-service-payment/snfpps/pdpm in conjunction with the release of the FY 2024 SNF PPS final rule, as corrected by the correction notification that appeared in the October 4, 2023 Federal Register, entitled “Medicare Program; Prospective Payment System and Consolidated Billing for Skilled Nursing Facilities; Updates to the Quality Reporting Program and Value-Based Purchasing Program for Federal Fiscal Year 2024; Correction” (88 FR 68486). The FY 2024 PDPM ICD-10 code mappings file may be accessed from the list of items under the “PDPM Resources” section of the website with an effective date of “10-01-2023”.

The first table in the FY 2024 PDPM ICD-10 code mappings file displays the list of ICD-10 codes that are recorded in Item I0020B ICD Code of the Minimum Data Set (MDS) assessment to determine a patient's clinical category assignment under PDPM. First, we are correcting errors in the clinical category assignment of 2 codes, B99.8 (Other infectious disease) and B99.9 (Unspecified infectious disease) (lines 1071 and 1072 of the Excel spreadsheet) to reinstate their prior year's assignments from the FY 2023 SNF PPS final rule, as we proposed no changes in clinical categories in this code range in the FY 2024 SNF PPS proposed rule nor finalized them in the FY 2024 SNF PPS final rule. As such, the clinical category mapping for these two codes will be corrected to be “Medical Management”.

Second, we are correcting errors in the clinical category assignments of codes within the S42.2 subcategory of ICD-10 codes (lines 32154 et seq.) and the M84.5 subcategory of ICD-10 codes (lines 17229 et seq.). As discussed in the FY 2024 SNF PPS final rule (88 FR 53221), we had proposed to add the surgical option that allows a subset of subcategory 42.2—codes for displaced fractures to be eligible for one of two orthopedic surgery categories. Additionally, we stated that we would add this surgical option to the subcategory of M84.5—codes for pathological fractures to certain weight bearing bones to be eligible for one of two orthopedic surgery categories. However, when updating the PDPM ICD-10 mapping for FY 2024 to reflect these changes, we inadvertently added the surgical option to a selection of ICD-10 codes for which we did not propose any changes. Further, we inadvertently did not add the surgical option for a selection of ICD-10 codes for which we did propose to do so.

Table 1 displays the list of affected ICD-10 codes for which we are correcting the clinical category assignments by adding the surgical option.

Table 1—Affected Codes From the Mapping of the ICD-10-CM Recorded in Item I0020B of the MDS Assessment to PDPM Clinical Categories Adding Surgical Option
ICD-10-CM code | ICD-10-CM code description
M84550A | Pathological fracture in neoplastic disease, pelvis, initial encounter for fracture.
M84550D | Pathological fracture in neoplastic disease, pelvis, subsequent encounter for fracture with routine healing.
M84550G | Pathological fracture in neoplastic disease, pelvis, subsequent encounter for fracture with delayed healing.
M84550K | Pathological fracture in neoplastic disease, pelvis, subsequent encounter for fracture with nonunion.
M84550P | Pathological fracture in neoplastic disease, pelvis, subsequent encounter for fracture with malunion.
M84561A | Pathological fracture in neoplastic disease, right tibia, initial encounter for fracture.
M84561D | Pathological fracture in neoplastic disease, right tibia, subsequent encounter for fracture with routine healing.
M84561G | Pathological fracture in neoplastic disease, right tibia, subsequent encounter for fracture with delayed healing.
M84561K | Pathological fracture in neoplastic disease, right tibia, subsequent encounter for fracture with nonunion.
M84561P | Pathological fracture in neoplastic disease, right tibia, subsequent encounter for fracture with malunion.
M84562A | Pathological fracture in neoplastic disease, left tibia, initial encounter for fracture.
M84562D | Pathological fracture in neoplastic disease, left tibia, subsequent encounter for fracture with routine healing.
M84562G | Pathological fracture in neoplastic disease, left tibia, subsequent encounter for fracture with delayed healing.
M84562K | Pathological fracture in neoplastic disease, left tibia, subsequent encounter for fracture with nonunion.
M84562P | Pathological fracture in neoplastic disease, left tibia, subsequent encounter for fracture with malunion.
M84563A | Pathological fracture in neoplastic disease, right fibula, initial encounter for fracture.
M84563D | Pathological fracture in neoplastic disease, right fibula, subsequent encounter for fracture with routine healing.
M84563G | Pathological fracture in neoplastic disease, right fibula, subsequent encounter for fracture with delayed healing.
M84563K | Pathological fracture in neoplastic disease, right fibula, subsequent encounter for fracture with nonunion.
M84563P | Pathological fracture in neoplastic disease, right fibula, subsequent encounter for fracture with malunion.
M84564A | Pathological fracture in neoplastic disease, left fibula, initial encounter for fracture.
M84564D | Pathological fracture in neoplastic disease, left fibula, subsequent encounter for fracture with routine healing.
M84564G | Pathological fracture in neoplastic disease, left fibula, subsequent encounter for fracture with delayed healing.
M84564K | Pathological fracture in neoplastic disease, left fibula, subsequent encounter for fracture with nonunion.
M84564P | Pathological fracture in neoplastic disease, left fibula, subsequent encounter for fracture with malunion.
M84571A | Pathological fracture in neoplastic disease, right ankle, initial encounter for fracture.
M84571D | Pathological fracture in neoplastic disease, right ankle, subsequent encounter for fracture with routine healing.
M84571G | Pathological fracture in neoplastic disease, right ankle, subsequent encounter for fracture with delayed healing.
M84571K | Pathological fracture in neoplastic disease, right ankle, subsequent encounter for fracture with nonunion.
M84571P | Pathological fracture in neoplastic disease, right ankle, subsequent encounter for fracture with malunion.
M84572A | Pathological fracture in neoplastic disease, left ankle, initial encounter for fracture.
M84572D | Pathological fracture in neoplastic disease, left ankle, subsequent encounter for fracture with routine healing.
M84572G | Pathological fracture in neoplastic disease, left ankle, subsequent encounter for fracture with delayed healing.
M84572K | Pathological fracture in neoplastic disease, left ankle, subsequent encounter for fracture with nonunion.
M84572P | Pathological fracture in neoplastic disease, left ankle, subsequent encounter for fracture with malunion.

Table 2 displays the list of affected ICD-10 codes for which we are correcting the clinical category assignments by removing the surgical option.

Table 2—Affected Codes From the Mapping of the ICD-10-CM Recorded in Item I0020B of the MDS Assessment to PDPM Clinical Categories Removing Surgical Option
ICD-10-CM code | ICD-10-CM code description
M84551S | Pathological fracture in neoplastic disease, right femur, sequela.
M84552S | Pathological fracture in neoplastic disease, left femur, sequela.
S42201A | Unspecified fracture of upper end of right humerus, initial encounter for closed fracture.
S42201D | Unspecified fracture of upper end of right humerus, subsequent encounter for fracture with routine healing.
S42201G | Unspecified fracture of upper end of right humerus, subsequent encounter for fracture with delayed healing.
S42201K | Unspecified fracture of upper end of right humerus, subsequent encounter for fracture with nonunion.
S42201P | Unspecified fracture of upper end of right humerus, subsequent encounter for fracture with malunion.
S42202A | Unspecified fracture of upper end of left humerus, initial encounter for closed fracture.
S42202D | Unspecified fracture of upper end of left humerus, subsequent encounter for fracture with routine healing.
S42202G | Unspecified fracture of upper end of left humerus, subsequent encounter for fracture with delayed healing.
S42202K | Unspecified fracture of upper end of left humerus, subsequent encounter for fracture with nonunion.
S42202P | Unspecified fracture of upper end of left humerus, subsequent encounter for fracture with malunion.
S42214A | Unspecified nondisplaced fracture of surgical neck of right humerus, initial encounter for closed fracture.
S42214D | Unspecified nondisplaced fracture of surgical neck of right humerus, subsequent encounter for fracture with routine healing.
S42214G | Unspecified nondisplaced fracture of surgical neck of right humerus, subsequent encounter for fracture with delayed healing.
S42214K | Unspecified nondisplaced fracture of surgical neck of right humerus, subsequent encounter for fracture with nonunion.
S42214P | Unspecified nondisplaced fracture of surgical neck of right humerus, subsequent encounter for fracture with malunion.
S42215A | Unspecified nondisplaced fracture of surgical neck of left humerus, initial encounter for closed fracture.
S42215D | Unspecified nondisplaced fracture of surgical neck of left humerus, subsequent encounter for fracture with routine healing.
S42215G | Unspecified nondisplaced fracture of surgical neck of left humerus, subsequent encounter for fracture with delayed healing.
S42215K | Unspecified nondisplaced fracture of surgical neck of left humerus, subsequent encounter for fracture with nonunion.
S42215P | Unspecified nondisplaced fracture of surgical neck of left humerus, subsequent encounter for fracture with malunion.
S42224D | 2-part nondisplaced fracture of surgical neck of right humerus, subsequent encounter for fracture with routine healing.
S42224K | 2-part nondisplaced fracture of surgical neck of right humerus, subsequent encounter for fracture with nonunion.
S42224P | 2-part nondisplaced fracture of surgical neck of right humerus, subsequent encounter for fracture with malunion.
S42225D | 2-part nondisplaced fracture of surgical neck of left humerus, subsequent encounter for fracture with routine healing.
S42225K | 2-part nondisplaced fracture of surgical neck of left humerus, subsequent encounter for fracture with nonunion.
S42225P | 2-part nondisplaced fracture of surgical neck of left humerus, subsequent encounter for fracture with malunion.
S42231D | 3-part fracture of surgical neck of right humerus, subsequent encounter for fracture with routine healing.
S42231K | 3-part fracture of surgical neck of right humerus, subsequent encounter for fracture with nonunion.
S42231P | 3-part fracture of surgical neck of right humerus, subsequent encounter for fracture with malunion.
S42232D | 3-part fracture of surgical neck of left humerus, subsequent encounter for fracture with routine healing.
S42232K | 3-part fracture of surgical neck of left humerus, subsequent encounter for fracture with nonunion.
S42232P | 3-part fracture of surgical neck of left humerus, subsequent encounter for fracture with malunion.
S42241D | 4-part fracture of surgical neck of right humerus, subsequent encounter for fracture with routine healing.
S42241K | 4-part fracture of surgical neck of right humerus, subsequent encounter for fracture with nonunion.
S42241P | 4-part fracture of surgical neck of right humerus, subsequent encounter for fracture with malunion.
S42242D | 4-part fracture of surgical neck of left humerus, subsequent encounter for fracture with routine healing.
S42242K | 4-part fracture of surgical neck of left humerus, subsequent encounter for fracture with nonunion.
S42242P | 4-part fracture of surgical neck of left humerus, subsequent encounter for fracture with malunion.
S42254A | Nondisplaced fracture of greater tuberosity of right humerus, initial encounter for closed fracture.
S42254D | Nondisplaced fracture of greater tuberosity of right humerus, subsequent encounter for fracture with routine healing.
S42254G | Nondisplaced fracture of greater tuberosity of right humerus, subsequent encounter for fracture with delayed healing.
S42254K | Nondisplaced fracture of greater tuberosity of right humerus, subsequent encounter for fracture with nonunion.
S42254P | Nondisplaced fracture of greater tuberosity of right humerus, subsequent encounter for fracture with malunion.
S42255A | Nondisplaced fracture of greater tuberosity of left humerus, initial encounter for closed fracture.
S42255D | Nondisplaced fracture of greater tuberosity of left humerus, subsequent encounter for fracture with routine healing.
S42255G | Nondisplaced fracture of greater tuberosity of left humerus, subsequent encounter for fracture with delayed healing.
S42255K | Nondisplaced fracture of greater tuberosity of left humerus, subsequent encounter for fracture with nonunion.
S42255P | Nondisplaced fracture of greater tuberosity of left humerus, subsequent encounter for fracture with malunion.
S42264A | Nondisplaced fracture of lesser tuberosity of right humerus, initial encounter for closed fracture.
S42264D | Nondisplaced fracture of lesser tuberosity of right humerus, subsequent encounter for fracture with routine healing.
S42264G | Nondisplaced fracture of lesser tuberosity of right humerus, subsequent encounter for fracture with delayed healing.
S42264K | Nondisplaced fracture of lesser tuberosity of right humerus, subsequent encounter for fracture with nonunion.
S42264P | Nondisplaced fracture of lesser tuberosity of right humerus, subsequent encounter for fracture with malunion.
S42265A | Nondisplaced fracture of lesser tuberosity of left humerus, initial encounter for closed fracture.
S42265D | Nondisplaced fracture of lesser tuberosity of left humerus, subsequent encounter for fracture with routine healing.
S42265G | Nondisplaced fracture of lesser tuberosity of left humerus, subsequent encounter for fracture with delayed healing.
S42265K | Nondisplaced fracture of lesser tuberosity of left humerus, subsequent encounter for fracture with nonunion.
S42265P | Nondisplaced fracture of lesser tuberosity of left humerus, subsequent encounter for fracture with malunion.
S42271A | Torus fracture of upper end of right humerus, initial encounter for closed fracture.
S42271D | Torus fracture of upper end of right humerus, subsequent encounter for fracture with routine healing.
S42271G | Torus fracture of upper end of right humerus, subsequent encounter for fracture with delayed healing.
S42271K | Torus fracture of upper end of right humerus, subsequent encounter for fracture with nonunion.
S42271P | Torus fracture of upper end of right humerus, subsequent encounter for fracture with malunion.
S42272A | Torus fracture of upper end of left humerus, initial encounter for closed fracture.
S42272D | Torus fracture of upper end of left humerus, subsequent encounter for fracture with routine healing.
S42272G | Torus fracture of upper end of left humerus, subsequent encounter for fracture with delayed healing.
S42272K | Torus fracture of upper end of left humerus, subsequent encounter for fracture with nonunion.
S42272P | Torus fracture of upper end of left humerus, subsequent encounter for fracture with malunion.
S42294A | Other nondisplaced fracture of upper end of right humerus, initial encounter for closed fracture.
S42294D | Other nondisplaced fracture of upper end of right humerus, subsequent encounter for fracture with routine healing.
S42294G | Other nondisplaced fracture of upper end of right humerus, subsequent encounter for fracture with delayed healing.
S42294K | Other nondisplaced fracture of upper end of right humerus, subsequent encounter for fracture with nonunion.
S42294P | Other nondisplaced fracture of upper end of right humerus, subsequent encounter for fracture with malunion.
S42295A | Other nondisplaced fracture of upper end of left humerus, initial encounter for closed fracture.
S42295D | Other nondisplaced fracture of upper end of left humerus, subsequent encounter for fracture with routine healing.
S42295G | Other nondisplaced fracture of upper end of left humerus, subsequent encounter for fracture with delayed healing.
S42295K | Other nondisplaced fracture of upper end of left humerus, subsequent encounter for fracture with nonunion.
S42295P | Other nondisplaced fracture of upper end of left humerus, subsequent encounter for fracture with malunion.

Given these errors, we are republishing the PDPM ICD-10 code mappings accordingly on the CMS website at https://www.cms.gov/medicare/medicare-fee-for-service-payment/snfpps/pdpm, applicable to October 1, 2023.

III. Waiver of Proposed Rulemaking

Under section 553(b) of the Administrative Procedure Act (the APA) (5 U.S.C. 553(b)), the agency is required to publish a notice of proposed rulemaking in the Federal Register before the provisions of a rule take effect. Similarly, section 1871(b)(1) of the Social Security Act (the Act) requires the Secretary to provide for notice of the proposed rule in the Federal Register and provide a period of not less than 60 days for public comment. In addition, section 553(d) of the APA and section 1871(e)(1)(B)(i) of the Act mandate a 30-day delay in effective date after issuance or publication of a rule. Sections 553(b)(B) and 553(d)(3) of the APA provide for exceptions from the APA notice and comment, and delay in effective date requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal notice and comment rulemaking procedures for good cause if the agency makes a finding that the notice and comment process is impracticable, unnecessary, or contrary to the public interest, and includes a statement of the finding and the reasons for it in the rule. In addition, section 553(d)(3) of the APA and section 1871(e)(1)(B)(ii) allow the agency to avoid the 30-day delay in effective date where such delay is contrary to the public interest and the agency includes in the rule a statement of the finding and the reasons for it.

In our view, this correcting document does not constitute a rulemaking that would be subject to notice and comment requirements. This document merely corrects technical errors in the FY 2024 SNF PPS final rule and in the tables referenced in the final rule. The corrections contained in this document are consistent with, and do not make substantive changes to, the policies and payment methodologies that were proposed, subject to notice and comment procedures, and adopted in the FY 2024 SNF PPS final rule. As a result, the corrections made through this correcting document are intended to resolve inadvertent errors so that the rule accurately reflects the policies adopted in the final rule. Even if this were a rulemaking to which the notice and comment and delayed effective date requirements applied, we find that there is good cause to waive such requirements. It is in the public interest for providers to receive appropriate payments in as timely a manner as possible, and to ensure that the FY 2024 SNF PPS final rule and the tables referenced in the final rule accurately reflect our methodologies, payment rates, and policies. This correcting document ensures that the FY 2024 SNF PPS final rule and the tables referenced in the final rule accurately reflect these methodologies and policies. Therefore, we believe we have good cause to waive the notice and comment and effective date requirements.

IV. Correction of Errors in the Preamble

In FR Doc. 2023-16249 of August 7, 2023 (88 FR 53200), make the following corrections:

1. On page 53221, second column, third full paragraph:

a. Second sentence that reads, “We proposed adding the surgical option that allows 45 subcategory S42.2—codes for displaced fractures to be eligible for one of two orthopedic surgery categories.” is corrected to read, “We proposed adding the surgical option that allows 46 subcategory S42.2—codes for displaced fractures to be eligible for one of two orthopedic surgery categories.”

b. Fourth sentence that reads, “We also proposed adding the surgical option to subcategory 46 M84.5—codes for pathological fractures to certain major weight-bearing bones to be eligible for one of two orthopedic surgery categories.” is corrected to read, “We also proposed adding the surgical option to subcategory 45 M84.5—codes for pathological fractures to certain major weight-bearing bones to be eligible for one of two orthopedic surgery categories.”

Elizabeth J. Gramling,
Executive Secretary to the Department, Department of Health and Human Services.

[FR Doc. 2024-07522 Filed 4-9-24; 8:45 am]

BILLING CODE 4120-01-P